DEPARTMENT OF HEALTH AND HUMAN SERVICES

Centers for Disease Control and Prevention

[30Day-14-13AGS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, D.C. 20503 or by fax to (202) 395-5806. Written comments should be received within 30 days of this notice.

Proposed Project

Prevention of Child Maltreatment through Policy Change—NEW—National Center for Injury Prevention and Control (NCIPC), Centers for Disease Control and Prevention (CDC).

Background and Brief Description

The prevalence and consequences of child maltreatment (CM) make it a public health concern that requires early and effective prevention. Public policies can be critical in shaping every level of the social ecology, including individuals, families, and communities, and thus have the potential to play a key role in the prevention of CM. In order to protect children and youth and build an evidence-base of effective prevention strategies, evaluation of public policies are needed, including those policies currently being implemented. Policies related to family income (e.g., Temporary Assistance to Needy Families (TANF) eligibility and inroads to related services) were identified by CDC through the Division of Violence Prevention's Public Health Leadership Initiative policy analysis as those that are in need of rigorous evaluation.

CDC requests OMB approval for a period of 2 years in order to perform a data collection, which will provide data for a larger outcome evaluation that seeks to understand if county-administered policy strategies of the TANF program result in lower rates of CM and associated child welfare outcomes (e.g., time to adoption). The proposed data collection will include surveys and semi-structured interviews with state and county-level government employees and partners in Colorado to address three primary aims: (1) To understand how a state policy allowing counties to administer TANF programs with flexibility contributes to county-level adoption of integrated welfare and child welfare service models; (2) to develop and refine an Implementation Index, which will quantify the degree of integration between welfare and child welfare services; and (3) to inform the larger outcome evaluation, which examines whether TANF policies and program supports reduce rates of CM when they are delivered in an integrated welfare and child welfare service model.

Understanding how service integration between TANF and child welfare affects CM may be very important to improving CDC's ability to devise and implement effective population-based prevention strategies.

Approximately 190 Colorado state and county employees and partners form the sample population. Specifically, state and county-level employees working in welfare and/or child welfare agencies will be invited to complete a brief survey and an hour-long semi-structured interview. Additionally, individuals employed by Allied Staff (e.g., Housing, Supplemental Nutrition Assistance Program, Medicaid, Child Care) and Partners of Child Welfare and Colorado Works will also be invited to complete an hour-long semi-structured interview.

There are no costs to respondents other than their time.

The total estimated annual burden hours are 111.

Estimated Annualized Burden
Type of respondents | Form name | Number of respondents | Number of responses per respondent | Average burden per response (in hrs)
County Directors of Human Services | Survey of County TANF and Child Welfare Respondents | 9 | 1 | 15/60
| Interview of County Director of Human Services | 9 | 1 | 1
State Level Administrators | Survey of State Level Administrators | 4 | 1 | 15/60
| Interview of State Level Administrator/Field Administrator | 4 | 1 | 1
Child Welfare/Colorado Works Leadership/Manager | Survey of County TANF and Child Welfare Respondents | 18 | 1 | 15/60
| Interview of Child Welfare/Colorado Works Leadership/Manager | 18 | 1 | 1
Child Welfare Services and Colorado Works Case Manager, Caseworker, Technician, and Other Client-Serving Staff | Survey of County TANF and Child Welfare Respondents | 27 | 1 | 15/60
| Interview of Child Welfare and Colorado Works Case Manager, Caseworker, Technician and Other Client-Serving Staff | 27 | 1 | 1
Allied Staff (e.g., Housing, Supplemental Nutrition Assistance Program, Medicaid, Child Care) | Interview of Allied Staff (e.g., Housing, Supplemental Nutrition Assistance Program, Medicaid, Child Care) | 18 | 1 | 1
Partners of Child Welfare and Colorado Works | Interview of Partners | 14 | 1 | 1
County Data Manager | Survey of County TANF and Child Welfare Respondents | 5 | 1 | 15/60
| Interview of Data Managers | 5 | 1 | 1

Leroy A. Richardson,
Chief, Information Collection Review Office, Office of Scientific Integrity, Office of the Associate Director for Science, Office of the Director, Centers for Disease Control and Prevention.

[FR Doc. 2014-05944 Filed 3-18-14; 8:45 am]

BILLING CODE 4163-18-P